FEDERAL COMMUNICATIONS COMMISSION

Sunshine Act; Schedule Change; FCC To Hold Open Commission Meeting, Thursday, July 8, 2004

Please note that the time for the Federal Communications Commission Open Meeting is rescheduled from 9:30 a.m. to 10 a.m.

The Federal Communications Commission will hold an Open Meeting on the subjects listed below on Thursday, July 8, 2004, which is scheduled to commence at 9:30 a.m. in Room TW-C305, at 445 12th Street, SW., Washington, DC.

Item No. | Bureau | Subject
1 | Consumer and Governmental Affairs | The Consumer and Governmental Affairs Bureau will present a report on the Commission's “Lands of Opportunity: Building Rural Connectivity” outreach initiative that is designed to ensure all Americans living in rural areas have access to affordable and quality telecommunications services.
2 | Office of Engineering and Technology | Title: Modification of parts 2 and 15 of the Commission's Rules for unlicensed devices and equipment approval (ET Docket No. 03-201).
|  | Summary: The Commission will consider a Report and Order concerning changes to several technical rules for unlicensed radiofrequency devices contained in parts 0, 2, and 15.
3 | Wireless Telecommunications | Title: Facilitating the Provision of Spectrum-Based Services to Rural Areas and Promoting Opportunities for Rural Telephone Companies to Provide Spectrum-Based Services (WT Docket No. 02-381); 2000 Biennial Regulatory Review Spectrum Aggregation Limits for Commercial Mobile Radio Services (WT Docket No. 01-14); and Increasing Flexibility to Promote Access to and the Efficient and Intensive Use of Spectrum and the Widespread Deployment of Wireless Services, and to Facilitate Capital Formation (WT Docket No. 03-202).
|  | Summary: The Commission will consider a Report and Order and Further Notice of Proposed Rulemaking concerning deployment of wireless services in rural areas.
4 | Wireless Telecommunications | Title: Promoting Efficient Use of Spectrum Through Elimination of Barriers to the Deployment of Secondary Markets (WT Docket No. 00-230).
|  | Summary: The Commission will consider a Second Report and Order, Order on Reconsideration, and Second Further Notice of Proposed Rulemaking concerning policies and procedures to promote the development of secondary markets in wireless radio spectrum usage rights.
5 | Wireline Competition | Title: Review of the section 251 Unbundling Obligations of Incumbent Local Exchange Carriers (CC Docket No. 01-338).
|  | Summary: The Commission will consider a Second Report and Order concerning the reinterpretation of section 252(i) of the Communications Act of 1934, as amended.
6 | Wireless Telecommunications, Office of Engineering and Technology | Title: Improving Public Safety Communications in the 800 MHz Band (WT Docket No. 02-55); Consolidating the 800 and 900 MHz Industrial/Land Transportation and Business Pool Channels (WT Docket No. 02-55); Amendment of part 2 of the Commission's Rules to Allocate Spectrum Below 3 GHz for Mobile and Fixed Services to Support the Introduction of New Advanced Wireless Services, including Third Generation Wireless Systems (ET Docket No. 00-258); Petition for Rule Making of the Wireless Information Networks Forum Concerning the Unlicensed Personal Communications Service (RM-9498); Petition for Rule Making of UT Starcom, Inc., Concerning the Unlicensed Personal Communications Service (RM-10024); Amendment of section 2.106 of the Commission's Rules to Allocate Spectrum at 2 GHz for use by the Mobile Satellite Service (ET Docket No. 95-18).
|  | Related orders implement changes in other bands made necessary to facilitate 800 MHz band reconfiguration.
|  | Summary: The Commission will consider a Report and Order, Fifth Report and Order, Memorandum Opinion and Order, and Order concerning reconfiguring the 800 MHz band to abate interference being encountered by public safety communications systems and other 800 MHz systems that do not employ cellular architecture.

Additional information concerning this meeting may be obtained from Audrey Spivack or David Fiske, Office of Media Relations, (202) 418-0500; TTY 1-888-835-5322. Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to www.capitolconnection.gmu.edu. Audio and video tapes of this meeting can be purchased from CACI Productions, 14151 Park Meadow Drive, Chantilly, VA 20151, (703) 679-3851.

Copies of materials adopted at this meeting can be purchased from the FCC's duplicating contractor, Best Copy and Printing, Inc. (202) 488-5300; Fax (202) 488-5563; TTY (202) 488-5562. These copies are available in paper format and alternative media, including large print/type; digital disk; and audio tape. Best Copy and Printing, Inc. may be reached by e-mail at FCC@BCPIWEB.com.

Federal Communications Commission.
Marlene H. Dortch,
Secretary.

[FR Doc. 04-15977 Filed 7-9-04; 2:36 pm]

BILLING CODE 6712-01-P